DEPARTMENT OF THE INTERIOR

Fish and Wildlife Service

[FWS-R4-R-2011-N261; FXRS12650400000-123-FF04R02000]

Clarks River National Wildlife Refuge, KY; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Clarks River National Wildlife Refuge (NWR) in Graves, Marshall, and McCracken Counties, Kentucky, for public review and comment. In this Draft CCP/EA, we describe the alternative we propose to use to manage this refuge for the 15 years following approval of the final CCP.

DATES: To ensure consideration, we must receive your written comments by March 16, 2012.

ADDRESSES: You may obtain a copy of the Draft CCP/EA by contacting Ms. Tina Chouinard, via U.S. mail at 49 Plainsbrook Place, Jackson, TN 38305, or via email at tina_chouinard@fws.gov. Alternatively, you may download the document from our Internet Site at http://southeast.fws.gov planning under “Draft Documents.” Comments on the Draft CCP/EA may be submitted to the above postal address or email address.

FOR FURTHER INFORMATION CONTACT: Ms. Tina Chouinard, at 731/432-0981 (telephone).

SUPPLEMENTARY INFORMATION:

Introduction

With this notice, we continue the CCP process for Clarks River NWR. We started the process through a notice in the Federal Register on August 29, 2008 (73 FR 50981). For more about the refuge and our CCP process, please see that notice.

Clarks River NWR is located in western Kentucky, an area also known as the Jackson Purchase. The refuge averages approximately 2 to 3 miles wide, extends about 20 miles from near Paducah, Kentucky, to just south of Benton, Kentucky. Due to the meandering nature of the Clarks River, the refuge acquisition boundary protects about 40 river miles.

Clarks River NWR was established in 1997. The acquisition boundary currently approved by Congress is approximately 19,605 acres, of which 8,634 acres have been purchased. The lands are distributed among counties as follows: Graves County (56 acres), Marshall County (5,970 acres), and McCracken County (2,608 acres). Lands are purchased on a willing-seller basis only. Clarks River NWR was established under the Emergency Wetlands Resources Act of 1986 (16 U.S.C. 3901) for the development, advancement, management, conservation, and protection of fish and wildlife resources.

Approximately 74 percent of the land associated with the Clarks River NWR is forested, 22 percent is agricultural land, and 2 percent is freshwater marsh/shrub swamp. The refuge is made up of managed impoundments, native warm-season grasses, and disturbed lands such as roads and utility corridors. Refuge lands are managed for all plants and animals that occur in the area of western Kentucky, with a primary emphasis on migratory songbirds and waterfowl, game species, and listed species. Refuge goals and objectives are achieved through forest management, cooperative farming, habitat restoration, water management, and prescribed fire.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in the Draft CCP/EA include: (1) Baseline wildlife surveys; (2) bottomland hardwood and riparian forest management; (3) land protection; (4) comprehensive hydrological study of the Clarks River; (5) enhancement of wildlife-dependent visitor services programs; (6) increase in permanent staff; and (7) compatibility determinations.

CCP Alternatives, Including Our Proposed Alternative

We developed three alternatives for managing the refuge (Alternatives A, B, and C), with Alternative B as our proposed alternative. A full description of each alternative is in the Draft CCP/EA. We summarize each alternative below.

Alternative A: Current Management (No Action)

The No Action Alternative, which would maintain current management approaches, was developed using anticipated conditions in the area of Clarks River NWR over the next 15 years. This alternative assumes that conservation management and land protection programs and activities that are currently being undertaken by the Service and other Federal agencies, as well as by State, local, and private organizations, would continue to follow past trends. Species of Federal responsibility, such as threatened and endangered species and migratory birds, would continue to be monitored at present levels. Acquisition of lands for the refuge would occur when funding is appropriated and willing sellers offer land that is identified as quality habitat.

Wildlife population monitoring and surveying would be focused primarily on waterfowl and mammal species. Additional species monitoring would occur opportunistically as partnerships and funding are available. Restoration efforts would continue as small, experimental projects instead of larger projects that promote longer-lasting benefits.

The biological environment would remain protected, but certain systems could suffer if not systematically monitored using focal species as indicators. Management under Alternative A would not adversely impact socioeconomic values of the area, but the refuge would not achieve its potential to provide the public with needed educational and wildlife-dependent recreational activities.

The public use programs of fishing, hunting, wildlife observation, wildlife photography, and environmental education and interpretation would continue at present levels and with current facilities. Public use programs would not change or increase with demand and would not be adapted based on the impacts to refuge resources.

In general, under Alternative A, management and administrative decisions and actions would occur when triggered by demands and sources outside the refuge, with little deliberation and planning being accomplished ahead of time. This alternative, included for the purpose of comparison to baseline conditions, is not considered to be the most effective management strategy for achieving the vision and goals of the refuge.

Alternative B: Optimize Wildlife-Dependent Public Use and Management (Proposed Alternative)

The proposed alternative, Alternative B, would emphasize management of the natural resources of Clarks River NWR based on maintaining and improving wetland habitats, monitoring targeted flora and fauna representative of the surrounding Clarks River watershed, and providing quality public use programs and wildlife-dependent recreational activities. All species occurring on the refuge would be considered, and certain targeted species would be managed for and monitored in addition to species of Federal responsibility. These species would be chosen based on the criteria that they are indicators of the health of important habitat or species of concern. Information gaps in knowledge of the refuge's aquatic species would be addressed.

Restoration efforts, habitat management, a prescribed fire program, and forest management would reflect best management practices determined after examination of historical regimes, soil types and elevation, and the current hydrological system. Management actions would be monitored for effectiveness and adapted to changing conditions, knowledge, and technology. A habitat management plan would be developed to plan future habitat projects and evaluate previous actions.

Overall public use would be monitored to determine if any negative impacts are occurring on resources from overuse. Education programs would be reviewed and improved to complement current management and current staffing. Public use programs would be updated to support and teach the reasons behind management actions, and to provide quality experiences to visitors. The refuge headquarters would be developed to provide more visitor services. In an increasingly developing region, a balanced wildlife-dependent recreational program would be a focus under this alternative. A new visitor center would be constructed. Archaeological resources would be surveyed.

The refuge currently has fee-title ownership of about 8,634 acres with an approved acquisition boundary of 19,605 acres. Lands are purchased on a willing-seller basis only. Alternative B includes a proposed expansion of 34,269 acres and would bring the total refuge acquisition boundary to approximately 53,874 acres, and would protect lands along the east and west forks of the Clarks River. Land acquisitions within the existing and proposed expanded acquisition boundaries would be based on importance of the habitat for target management species. We would offer interpretation of refuge wildlife and habitats, as well as demonstrate habitat improvements for individual landowners.

In general, under Alternative B, management decisions and actions would support wildlife species and habitat occurring on the refuge based on well-planned strategies and sound scientific judgment. Quality wildlife-dependent recreational uses and environmental education and interpretation programs would be offered to support and explain the natural resources of the refuge.

This alternative would add six new positions to current staffing in order to protect resources, provide visitor services, and attain goals of facilities and equipment maintenance in the future. The biological environment would improve as adaptive and best management practices are utilized. Socioeconomic values should also increase as we offer increased wildlife-dependent recreational opportunities. Areas such as this are beneficial to local ecotourism trade and residents searching for natural landscapes and associated benefits.

Alternative C: Maximize Wildlife-Dependent Recreation and Management

Alternative C would emphasize maximizing wildlife-dependent recreational uses on the refuge. The increase of nine staff members in addition to the existing employees would support public use activities, including hunting, fishing, wildlife observation, wildlife photography, and environmental education and interpretation. In general, the focus would be on expanding public use activities to the fullest extent possible, while conducting only mandated resource protection, such as conservation of threatened and endangered species, migratory birds, and archaeological resources.

All management programs for conservation of wildlife and habitat, such as monitoring, surveying, and researching, would support species and resources of importance for public use enhancement. Emphasis would be placed more on interpreting and demonstrating these programs than actual implementation. Providing access with trails would be maximized, as well as providing public use facilities throughout the refuge. Federal trust species and archaeological resources would be monitored as mandated, but other species targeted for management would depend on which ones the public is interested in utilizing. Habitat restoration efforts would be based on public use demands and criteria rather than determined through methods using a strategic habitat conservation approach.

With the majority of staff time and funds supporting a public use program, wildlife-dependent recreation and environmental education and interpretation could be more successful than in the other alternatives. Land acquisitions within the approved acquisition boundary would be based on importance of the habitat for public use. The refuge headquarters and visitor center would be developed for public use activities such as interpretation and outreach.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (Pub. L. 105-57).

Dated: January 4, 2012.
Mark J. Musaus,
Acting Regional Director.

[FR Doc. 2012-3477 Filed 2-14-12; 8:45 am]

BILLING CODE 4310-55-P